DEPARTMENT OF STATE

[Public Notice 4745]

30-Day Notice of Proposed Information Collection: Form DS-4048, Projected Sales of Major Weapons in Support of Section 25(a)(1) of the Arms Export Control Act; OMB Control Number 1405-XXXX

ACTION: Notice of OMB submission and request for public comment.

SUMMARY: The Department of State has submitted the following information collection request to the Office of Management and Budget (OMB) for approval in accordance with the Paperwork Reduction Act of 1995.

• Title of Information Collection: Projected Sales of Major Weapons in Support of Section 25(a)(1) of the Arms Export Control Act.

• OMB Control Number: None.

• Type of Request: Existing Collection in Use without an OMB Control Number.

• Originating Office: Bureau of Political-Military Affairs, Directorate of Defense Trade Controls, (PM/DDTC).

• Form Number: DS-4048.

• Respondents: Business organizations.

• Estimated Number of Respondents: 20.

• Estimated Number of Responses: 20.

• Average Hours Per Response: 60 hours.

• Total Estimated Burden: 1200 hours.

• Frequency: Once per year per respondent.

• Obligation to Respond: Voluntary.

DATE(S): Comments may be submitted to the Office of Management and Budget (OMB) by July 15, 2004.

ADDRESSES: Comments and questions should be directed to Alex Hunt, the State Department Desk Officer in the Office of Information and Regulatory Affairs at the Office of Management and Budget (OMB), who may be reached on 202-395-7860. You may submit comments by any of the following methods:

• E-mail: ahunt@omb.eop.gov. You must include the DS form number (if applicable), information collection title, and OMB control number in the subject line of your message.

• Hand Delivery or Courier: OIRA State Department Desk Officer, Office of Management and Budget, 725 17th Street, NW., Washington, DC 20503.

• Fax: 202-395-6974.

FOR FURTHER INFORMATION CONTACT: Copies of the proposed information collection and supporting documents may be obtained from Michael T. Dixon, Director, Office of Defense Trade Controls Management, Directorate of Defense Trade Controls, Bureau of Political-Military Affairs, SA-1, Room H1200, 2401 E Street, NW., Washington, DC 20522-0112 (202) 663-2700. E-mail: DixonMT@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The information will be used to prepare an annual report to Congress regarding arms sales proposals covering all Foreign Military Sales (FMS) and licensed commercial exports of major weapons or weapons-related defense equipment for $7,000,000 or more, or of any other weapons or weapons-related defense equipment for $25,000,000 or more, which are considered eligible for approval during the current calendar year in accordance with § 25 of the Arms Export Control Act (AECA) (22 U.S.C. 2765).

Methodology: Respondents may submit the information by e-mail using DS-4048, an Excel electronic spreadsheet, or by letter using the fax or postal mail.

Dated: May 26, 2004.
Gregory M. Suchan,
Deputy Assistant Secretary for Defense Trade Controls, Bureau of Political-Military Affairs, Department of State.

[FR Doc. 04-13468 Filed 6-14-04; 8:45 am]

BILLING CODE 4710-25-P